DEPARTMENT OF ENERGY

Federal Energy Regulatory Commission

[Docket No. EC03-69-001, et al.]

FPL Energy Seabrook, LLC, et al.; Electric Rate and Corporate Filings

June 5, 2003.

The following filings have been made with the Commission. The filings are listed in ascending order within each docket classification.

1. FPL Energy Seabrook, LLC and FPL Energy New England Transmission, LLC

[Docket No. EC03-69-001]

Take notice that on May 30, 2003, FPL Energy Seabrook, LLC and FPL Energy New England Transmission, LLC submitted a notice of withdrawal of their joint application for authorization to transfer jurisdictional facilities filed on March 21, 2003, and their joint answer to protests and comments filed on April 28, 2003.

Comment Date: June 20, 2003.

2. U.S. Department of Energy, Bonneville Power Administration

[Docket No. EF03-2021-000]

Take notice that on June 3, 2004, the Bonneville Power Administration (Bonneville) submitted for filing Bonneville's proposed 2004 Transmission and Ancillary Services Rates. Bonneville requests that the Commission confirm and approve the rates pursuant to Sections 7(a)(2) and 7(I)(6) of the Pacific Northwest Electric Power Planning and Conservation Act, 16 U.S.C. §§ 839(a)(2) and 839e(I)(6), and Subpart B of part 300 of the Commission's regulations, 18 CFR part 300. Bonneville requests that the Commission grant interim approval of the proposed rates by September 30, 2003, followed by final approval, with the rates to be effective October 1, 2003 through September 30, 2005.

Comment Date: June 24, 2003.

3. New York Independent System Operator, Inc.

[Docket No. ER01-3001-006]

Take notice that on June 2, 2003, the New York Independent System Operator, Inc. (NYISO) submitted a report on the status of its demand side management programs and the status of the addition of new generation resources in New York State in compliance with the Commission's previous orders in the above-captioned proceeding.

The NYISO states it has served a copy of this filing upon all parties that have executed service agreements under the NYISO's Open Access Transmission Tariff and Market Administration and Control Area Services Tariff.

Comment Date: June 23, 2003.

4. Michigan Electric Transmission Company, LLC

[Docket No. ER03-688-001]

Take notice that on June 3, 2003, Michigan Electric Transmission Company, LLC submitted revisions to its proposed amendment to the “Project I Transmission Ownership and Operating Agreement Between Consumers Power Company and Michigan South Central Power Agency,” to comply with the Federal Energy Regulatory Commission's May 19, 2003 Order in Docket No. ER03-688-000.

Comment Date: June 24, 2003.

5. Northeast Utilities Service Company

[Docket No. ER03-907-000]

Take notice that on May 30, 2003, Northeast Utilities Service Company (NUSCO), on behalf of its operating company affiliates, The Connecticut Light and Power Company, Wester Massachusetts Electric Company, Holyoke Power and Electric Company and Holyoke Water Power Company ( the NU Companies) tenders for filing a Second Amendment (Second Amendment) to the Settlement Agreement approved by the Commission in 88 FERC • 61,006 (the Settlement) to extend the rates, terms and conditions of the Settlement for an additional period of sixty days to allow additional time to complete negotiations of amendments to underlying transmission service agreements.

NUSCO states that a copy of the filing has been mailed to the service list. NUSCO requests an effective date of May 30, 2003 and requests any waiver of the Commission 's regulations that may be necessary to permit such an effective date.

Comment Date: June 20, 2003.

6. Fulcrum Power Marketing LLC

[Docket No. ER03-908-000]

Take notice that on June 2, 2003, Fulcrum Power Marketing LLC petitioned the Commission for acceptance of its Rate Schedule FERC No. 1, the granting of certain blanket approvals, including the authority to sell electricity at market-based rates, and the waiver of certain of the Commission's Regulations.

Comment Date: June 23, 2003.

7. New Energy Partners, L.L.C.

[Docket No. ER03-909-000]

Take notice that on June 2, 2003, New Energy Partners, L.L.C. tendered for filing a Notice of Cancellation pursuant to 18 CFR 35.15 to reflect the cancellation of its Market Rate Tariff, designated as Rate Schedule FERC No. 1, and code of conduct, designated as Supplement No. 1 to Rate Schedule No. 1, both originally accepted for filing in Docket No. ER99-1812-000.

Comment Date: June 23, 2003.

8. New England Power Pool

[Docket No. ER03-910-000]

Take notice that on June 2, 2003, the New England Power Pool (NEPOOL) Participants Committee filed for acceptance changes to NEPOOL Market Rule 1 and its Appendices. The Participants Committee requests an August 1, 2003 effective date for the filed changes.

The Participants Committee states that copies of these materials were sent to the New England state governors and regulatory commissions and the Participants in NEPOOL.

Comment Date: June 23, 2003.

9. Deseret Generation & Transmission Co-operative, Inc.

[Docket No. ER03-911-000]

Take notice that on June 3, 2003, Deseret Generation & Transmission Co-operative, Inc. submitted a filing detailing a Supplemental 2002 Rebate to each of its six member cooperatives under Service Agreement Nos. 1 through 6 of FERC Electric Tariff, Original Volume No. 1.

Comment Date: June 24, 2003.

10. Perryville Energy Partners, L.L.C.

[Docket No. ER03-912-000]

Take notice that on June 3, 2003, Perryville Energy Partners, L.L.C. (Perryville) tendered for filing a First Revised Sheet No. 1 superseding Original Sheet No. 1 of its FERC Electric Tariff, Original Volume No.1. Perryville states that the revisions reflect the change in ownership that occurred June 20, 2002, and the resulting termination of Perryville's status as an affiliate of Alabama Power Company, Georgia Power Company, Gulf Power Company, Mississippi Power Company, and Savannah Electric and Power Company.

Comment Date: June 24, 2003.

11. Avista Corporation

[Docket No. ER03-913-000]

Take notice that on June 3, 2003, Avista Corporation (Avista) submitted a Notice of Cancellation of TXU Energy Trading Company, LP formerly Enserch Energy Services, Inc., Rate Schedule No. 260.

Avista seeks all waivers necessary to allow the cancellation to be effective as of May 31, 2003. Avista also states that a copy of the filing has been provided to TXU Energy Trading Company.

Comment Date: June 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14922 Filed 6-12-03; 8:45 am]

BILLING CODE 6717-01-P